DEPARTMENT OF AGRICULTURE

Submission for OMB Review; Comment Request

March 14, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: Non-Profit Customer Voluntary Survey on the Equal Treatment Rule.

OMB Control Number: 0575-NEW.

Summary of Collection: In accordance with the Government Performance and Results Act and Executive Order 13280, Responsibilities of the Department of Agriculture and the Agency for International Development With Respect to Faith-Based and Community Initiatives, the survey will measure Rural Development's implementation of and compliance with the Equal Treatment Rule (7 CFR part 16) as well as implement action plans and measure improvements. The 14 Rural Development programs under the Faith-Based and Community Initiatives provide insured or guaranteed loans and/or grants to eligible applicants (including non-profit entities) located in rural geographic areas to assist them in providing services to beneficiaries, low-income individuals and communities.

Need and Use of the Information: To facilitate improved participant outcome, and in an effort to continuously improve program services, the survey can measure impediments that applicants may have encountered when they submitted an application. The outcome of the Voluntary Survey on the Equal Treatment Rule will provide the general satisfaction level among non-profit borrowers throughout the nation, highlight areas that need improvement, provide a benchmark for future surveys, and improvement in implementation of and compliance with the Equal Treatment Rule.

Description of Respondents: Not-for-profit institutions.

Number of Respondents: 4,000.

Frequency of Responses: Reporting: One time.

Total Burden Hours: 320.

Charlene Parker,
Departmental Information Collection Clearance Officer.

[FR Doc. E7-4915 Filed 3-16-07; 8:45 am]

BILLING CODE 3410-XT-P